DEPARTMENT OF HOMELAND SECURITY

Office of the Secretary

[Docket No. DHS-2009-0123]

Privacy Act of 1974; United States Citizenship and Immigration Services—010 Asylum Information and Pre-Screening System of Records

AGENCY: Privacy Office; DHS.

ACTION: Notice of Privacy Act systems of records.

SUMMARY: In accordance with the Privacy Act of 1974, the Department of Homeland Security proposes to add a new system of records to the Department of Homeland Security's inventory, entitled Unites States Citizenship and Immigration Services-010 Asylum Information and Pre-Screening System of Records. This new system of records is composed of two existing legacy IT systems: The Refugees, Asylum, and Parole System and the Asylum Pre-Screening System. Refugees, Asylum, and Parole System and Asylum Pre-Screening System have been in operation prior to the publication of this system of records notice as both systems were deemed to contain active records for only non-United States citizens and non-legal permanent residents. Refugees, Asylum, and Parole System and Asylum Pre-Screening System are used to capture information pertaining to asylum applications, credible fear and reasonable fear screening processes, and applications for benefits provided by Section 203 of the Nicaraguan Adjustment and Central American Relief Act. This newly established system will be included in the Department of Homeland Security's inventory of record systems.

DATES: Submit comments on or before February 4, 2010. This new system will be effective February 4, 2010.

ADDRESSES: You may submit comments, identified by Docket Number DHS-2009-0123, by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this notice. All comments received will be posted without change to http://www.regulations.gov, including any personal information provided.

• Docket: For access to the docket to read background documents or comments received go to http://www.regulations.gov.

FOR FURTHER INFORMATION CONTACT: For general questions please contact: United States Citizenship and Immigration Services (202-272-1663), 20 Massachusetts Avenue, NW., 3rd Floor, Washington, DC 20529. For privacy issues please contact: Mary Ellen Callahan (703-235-0780), Chief Privacy Officer, Privacy Office, U.S. Department of Homeland Security, Washington, DC 20528.

SUPPLEMENTARY INFORMATION:

I. Background

As set forth in section 451(b) of the Homeland Security Act of 2002, Congress charged United States Citizenship and Immigration Services (USCIS) with the administration of the asylum program, which provides protection to qualified individuals in the United States who have suffered past persecution or have a well-founded fear of future persecution in their country of origin as outlined under 8 CFR part 208. USCIS is also responsible for the adjudication of the benefit program established by section 203 of the Nicaraguan Adjustment and Central American Relief Act (NACARA 203), in accordance with 8 CFR part 241, and the maintenance and administration of the credible fear and reasonable fear screening processes, in accordance with 8 CFR 208.30 and 208.31.

In order to carry out its statutory obligations in administering these benefit programs, USCIS has established the Asylum Information and Pre-Screening System of Records to facilitate every aspect of intake, adjudication, and review of the specified programs.

The Asylum Information and Pre-Screening System tracks case status and facilitate the scheduling of appointments and interviews as well as to issue notices at several stages of the adjudication process and to generate decision documents. This system also initiates, facilitates and tracks security and background check screening, and prevents the approval of any benefit prior to the review and completion of all security checks. Finally, the system provides a fully developed and flexible means for analyzing and managing program workflows and provides the Asylum Program with statistical reports to assist with oversight of production and processing goals.

The Asylum Information and Pre-Screening System is composed of two IT systems: Refugees, Asylum and Parole System (RAPS) and Asylum Pre-Screening System (APSS). RAPS is a comprehensive case management tool that enables USCIS to handle and process applications for asylum pursuant to section 208 of the Immigration and Nationality Act (Act) and applications for adjustment pursuant to section 203 of NACARA. DHS offices worldwide can access RAPS as a resource of current and historic immigration status information on more than one million applicants. DHS officials can use RAPS to verify the status of asylum applicants, asylees, and their dependents to assist with the verification of an individual's immigration history in the course of a review of visa petitions and other benefit applications as well.

APSS is a program-focused case management system that supports USCIS in the screening of individuals in the expedited removal process and of individuals subject to reinstatement of a final order of removal or an administrative removal order based on a conviction of an aggravated felony to determine whether they have credible fear or reasonable fear, thus providing the individual with an opportunity for a hearing before an immigration judge. Case tracking, application processing, and workflow management are carried out for all credible fear and reasonable fear screenings using APSS.

II. Privacy Act

The Privacy Act embodies fair information principles in a statutory framework governing the means by which the United States Government collects, maintains, uses and disseminates personally identifiable information. The Privacy Act applies to information that is maintained in a “system of records. A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses to which personally identifiable information is put, and to assist the individual to more easily find such files within the agency. Below is a description of DHS/USCIS-010 system of records.

In accordance with 5 U.S.C. 552a(r), DHS has provided a report of these new systems of records to the Office of Management and Budget and to the Congress.

System of Records

DHS/USCIS-010

System name:

United States Citizenship and Immigration Services Asylum Information and Pre-Screening System.

Security classification:

Unclassified.

System location:

The system is currently located at the Department of Justice (DOJ) Data Processing Center, Dallas, Texas, with data access by Department of Homeland Security (DHS) users including, but not limited to, U.S. Citizenship and Immigration Services (USCIS) users from Headquarters, Regional, and District Offices, Service Centers, the National Benefit Center and Asylum Offices.

Categories of individuals covered by this system:

Categories of individuals covered by Asylum Information and Pre-Screening System include:

• Individuals covered by provisions of section 208 of the Immigration and Nationality Act (Act), as amended, who have applied with USCIS for asylum on Form I-589 (Application for Asylum and for Withholding of Removal) and/or for suspension of deportation/special rule cancellation of removal under section 203 of NACARA on Form I-881 (Application for Suspension of Deportation or Special Rule Cancellation of Removal);

• Individuals who were referred to a USCIS Asylum Officer for a credible fear or reasonable fear screening determination under 8 CFR part 208, subpart B, after having expressed a fear of return to the intended country of removal because of fear of persecution or torture, during the expedited removal process under 8 U.S.C. 1225(b), the administrative removal processes under 8 U.S.C. 1228(b) (removal of certain aliens convicted of aggravated felonies), or 8 U.S.C. 1231(a)(5) (reinstatement of certain prior removal orders);

• The spouse and children of a principal asylum applicant properly included in an asylum application; and

• Persons who complete asylum applications on behalf of the asylum applicant (e.g., attorneys, form preparers, representatives).

Categories of records in the system:

Categories of records in Asylum Information and Pre-Screening System include:

• Name,

• Alias,

• Alien number (A-number),

• Address,

• Sex,

• Marital status,

• Date of birth,

• Country of birth,

• Country of nationality,

• Ethnic origin,

• Religion,

• Port and date of entry,

• Social Security number (if available),

• Status at entry, filing date of asylum application,

• Results of security checks,

• Languages spoken.

• Claimed basis of eligibility for benefit(s) sought,

• Case status,

• Case history,

• Employment authorization eligibility and application history.

• Information from other systems of records (or their successor systems) such as Removable Alien Records System (DHS/ICE-011, published May 5, 2009, 74 FR 20719), TECS (DHS/CBP-011, published December 1, 2008, 73 FR 77778), the Records and Management Information System (JUSTICE/EOIR-001, published May 11, 2004, 69 FR 26179), and the USCIS Benefits Information System (BIS) (DHS/USCIS-003, published September 29, 2008, 73 FR 56596).

Authority for maintenance of the system:

8 U.S.C. 1101, 1103, 1158, 1225, 1228, and 1522.

Purpose(s):

The purpose of Asylum Information and Pre-Screening System is to manage, control, and track the following types of adjudications:

A. Affirmative asylum applications and

B. Applications filed with USCIS for suspension of deportation/special rule cancellation of removal pursuant to section 203 of NACARA.

C. Credible fear screening cases under 8 U.S.C. 1225(b)(1)(B) and

D. Reasonable fear screening cases under 8 CFR 208.31.

Routine uses of records maintained in the system, including categories of users and the purpose of such uses:

In addition to those disclosures generally permitted under 5 U.S.C. 552a(b) of the Privacy Act, all or a portion of the records or information contained in this system may be disclosed outside DHS as a routine use pursuant to 5 U.S.C. 552a(b)(3) as follows:

A. To the Department of Justice or other Federal agency conducting litigation or in proceedings before any court, adjudicative or administrative body, when:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm as limited by the terms and conditions of 8 CFR 208.6.

F. To contractors and their agents, grantees, experts, consultants, and others performing or working on a contract, service, grant, cooperative agreement, or other assignment for DHS, when necessary to accomplish an agency function related to this system of records. Individuals provided information under this routine use are subject to the same Privacy Act requirements and limitations and the limitations of Title 8, Code of Federal Regulations (8 CFR) § 208.6 on disclosure as are applicable to DHS officers and employees. 8 CFR 208.6 prohibits the disclosure to third parties of information contained in or pertaining to asylum applications, credible fear determinations, and reasonable fear determinations except under certain limited circumstances.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To any element of the U.S. Intelligence Community, or any other Federal or state agency having a counterterrorism function, provided that the need to examine the information or the request is made in connection with its authorized intelligence or counterterrorism function or functions and the information received will be used for the authorized purpose for which it is requested.

I. To other Federal, State, tribal, and local government agencies, foreign governments, intergovernmental organizations and other individuals and organizations as necessary and proper during the course of an investigation, processing of a matter, or during a proceeding within the purview of U.S. or foreign immigration and nationality laws, to elicit or provide information to enable DHS to carry out its lawful functions and mandates, or to enable the lawful functions and mandates of other federal, state, tribal, and local government agencies, foreign governments, or intergovernmental organizations as limited by the terms and conditions of 8 CFR 208.6 and any waivers issued by the Secretary.

J. To a Federal, State, tribal, or local government agency or foreign government seeking to verify or ascertain the citizenship or immigration status of any individual within the jurisdiction of the agency for any purpose authorized by law.

K. To appropriate agencies, entities, and persons when:

1. It is suspected or confirmed that the security or confidentiality of information in the system of records has been compromised;

2. It is determined that as a result of the suspected or confirmed compromise there is a risk of harm to economic or property interests, identity theft or fraud, or harm to the security or integrity of this system or other systems or programs (whether maintained by DHS or another agency or entity) that rely upon the compromised information; and

3. The disclosure is made to such agencies, entities, and persons when reasonably necessary to assist in connection with efforts to respond to the suspected or confirmed compromise and prevent, minimize, or remedy such harm.

Disclosure to consumer reporting agencies:

None.

Policies and practices for storing, retrieving, accessing, retaining, and disposing of records in the system:

Storage:

The records are stored in a database on magnetic disk and tape. A record, or any part thereof, may be printed and stored in the applicant's A-file.

Retrievablity:

Records are indexed and retrievable by name and/or A-file number.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions. The system maintains a real-time auditing function of individuals who access the system. Additional safeguards may vary by component and program.

Retention and disposal:

The following USCIS proposal for retention and disposal is pending approval by NARA:

Master File automated records will be maintained for 25 years after the case is closed, and then archived at the DOJ Data Processing Center or its designated successor, for 75 years and then destroyed. Copies of system data may be stored in the individual's Alien File (NCI-85-80-5/1).

Reports used to facilitate case processing that contains personally identifiable information will be maintained at Headquarters and Asylum Field Offices and destroyed when no longer needed.

System Manager and address:

The Chief of the Asylum Division, Refugee, Asylum and International Operations Directorate, U.S. Citizenship and Immigration Services, Suite 3300, 20 Massachusetts Avenue, NW., Washington, DC 20529.

Notification procedure:

The Secretary of Homeland Security has exempted this system from the notification, access, and amendment procedures of the Privacy Act because of criminal, civil, and administrative enforcement requirements. However, USCIS will consider individual requests to determine whether or not information may be released. Thus, individuals seeking notification of and access to any record contained in this system of records, or seeking to contest its content, may submit a request in writing to the Headquarters or component's FOIA Officer, whose contact information can be found at http://www.dhs.gov/foia under “contacts.” If an individual believes more than one component maintains Privacy Act records concerning him or her the individual may submit the request to the Chief Privacy Officer, Department of Homeland Security, 245 Murray Drive, SW., Building 410, STOP-0655, Washington, DC 20528.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Records are obtained from the individuals who are the subject of these records. Information contained in this system may also be supplied by DHS, other U.S. Federal, State, tribal, or local government agencies, foreign government agencies, and international organizations.

Exemptions claimed for the system:

None.

Dated: December 29, 2009.
Mary Ellen Callahan,
Chief Privacy Officer, Department of Homeland Security.

[FR Doc. E9-31267 Filed 1-4-10; 8:45 am]

BILLING CODE 9111-97-P